DEPARTMENT OF LABOR

Employment and Training Administration

[TA-W-56,371]

Springs Industries, Ellijay, GA; Notice of Termination of Investigation

Pursuant to section 221 of the Trade Act of 1974, an investigation was initiated on January 21, 2005, in response to a petition filed by a company official on behalf of workers at Springs Industries, Ellijay, Georgia.

The petitioning group of workers is covered by an earlier petition (TA-W-56,295) filed on January 5, 2005, that is the subject of an ongoing investigation for which a determination has not yet been issued. Further investigation in this case would duplicate efforts and serve no purpose; therefore the investigation under this petition has been terminated.

Signed in Washington, DC, this 24th day of January, 2005.
Richard Church,
Certifying Officer, Division of Trade Adjustment Assistance.

[FR Doc. E5-712 Filed 2-22-05; 8:45 am]

BILLING CODE 4510-30-P